DEPARTMENT OF HOMELAND SECURITY

Coast Guard

33 CFR Part 100

[CGD 07-05-001]

RIN 1625-AA11

Special Local Regulation; Annual Gasparilla Marine Parade, Hillsborough Bay, Tampa, FL

AGENCY: Coast Guard, DHS.

ACTION: Temporary final rule.

SUMMARY: The Coast Guard is temporarily changing the regulations regarding the Annual Gasparilla Marine Parade, Hillsborough Bay, and Tampa, FL. This action is necessary because the Parade will be held on January 29, 2005, instead of the first Saturday in February as established by permanent regulation. Also, the Coast Guard and the Parade coordinators have agreed on a modified parade route to minimize security and safety concerns and reduce congestion in the Sparkman and Ybor channels in vicinity of commercial port facilities.

DATES: This rule is effective from 9 a.m. on January 29, 2005, until 2:30 p.m. on February 5, 2005.

ADDRESSES: Documents indicated in this preamble as being available in the docket are part of docket [CGD 07-05-001] and are available for inspection or copying at Marine Safety Office Tampa, 155 Columbia Drive, Tampa, Florida 33606-3598 between 7:30 a.m. and 4 p.m., Monday through Friday, except Federal holidays.

FOR FURTHER INFORMATION CONTACT: Lieutenant Junior Grade Jennifer Andrew at Marine Safety Office Tampa (813) 228-2191 Ext. 8101.

SUPPLEMENTARY INFORMATION:

Regulatory Information

We did not publish a notice of proposed rulemaking (NPRM) for this regulation. Under 5 U.S.C. 553(b)(B), the Coast Guard finds that good cause exists for not publishing an NPRM. Publishing an NPRM for this rule would be contrary to the public interest since security and safety concerns in vicinity of commercial facilities on the Sparkman and Ybor channels require redirection of the parade route in order to minimize potential danger to the public, the port and waterways. The Coast Guard will issue a broadcast notice to mariners to advise mariners of the restriction.

Under 5 U.S.C. 553(d)(3), the Coast Guard finds that good cause exists for making this rule effective less than 30 days after publication in the Federal Register. To alleviate security and safety concerns, it is in the public interest that this rule be effective on the rescheduled date for the event, which will occur prior to 30 days after publication.

Background and Purpose

The Annual Gasparilla Marine Parade is governed by a permanent regulation published at 33 CFR 100.734 and is normally held on the first Saturday in February. This year, the event is being moved to January 29, 2005, because event coordinators were concerned there would be a lack of participation if the event was held during the weekend of the Super Bowl. The effective dates of this rule include the time from the new date until the date on which the event is normally held in order to make the regulation enforceable on January 29, 2005 and to remove existing restrictions normally imposed on the first Saturday in February.

The proximity of vessels and persons to high profile commercial port facilities in the Port of Tampa, Florida, as well as waterway congestion in the vicinity of these facilities, continue to generate security and safety concerns for the Coast Guard, the marine industry and the public. To alleviate these concerns, the Coast Guard Captain of the Port Tampa and event planners for this parade have coordinated efforts to modify the existing parade route to avoid parade transit and significant congestion in the vicinity of commercial facilities on the Sparkman and Ybor channels.

Discussion of Rule

This rule is necessary to accommodate the change in date of the event and to modify the parade route to reflect the coordinated efforts of the Coast Guard and event planners. The portions of the parade route that transit the Sparkman and Ybor channels have been removed from the parade route for this year's events.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this rule to be so minimal that a full Regulatory Evaluation under the policies and procedures of DHS is unnecessary. The short duration of this regulation would have little, if any, economic impact.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which may be small entities: the owners or operators of vessels intending to transit or anchor in a portion of Hillsborough Bay and its tributaries north of a line drawn along latitude 27° 51′ 18″ N (Coordinates Reference Datum: NAD 1983).

The amendments to the current existing regulation will not have a significant economic impact on a substantial number of small entities for the following reasons. This rule will be in effect for one day and only commercial marine traffic will be precluded from entering the regulated area. Minimal marine traffic is expected to transit this area. Before the effective period, we will issue maritime advisories widely available to users of the waterway.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(h), of the Instruction, from further environmental documentation. As a special local regulation issued in conjunction with a marine parade, this rule satisfies the requirements of paragraph (34)(h). Under figure 2-1, paragraph (34)(h), of the instruction, an “Environmental Analysis Check List” and a draft “Categorical Exclusion Determination” are not required for this rule.

List of Subjects in 33 CFR Part 100

Regattas and marine parades.

For the reasons discussed in the preamble, the Coast Guard amends 33 CFR part 100 as follows:

PART 100—SAFETY OF LIFE ON NAVIGABLE WATERS

1. The authority citation for part 100 continues to read as follows:

Authority: 33 U.S.C. 1233; Department of Homeland Security Delegation No. 0170.1.

2. From 9 a.m. on January 29, 2005, until 2:30 p.m. on February 5, 2005, in § 100.734, suspend paragraphs (a), (b) and (c), and add new paragraphs (d) and (e) to read as follows:

§ 100.734 Annual Gasparilla Marine Parade; Hillsborough Bay, Tampa, FL.

* * * * *

(d) Regulated area. A regulated area is established consisting of all waters of Hillsborough Bay and its tributaries north of a line drawn along latitude 27° 51′ 18″ N. The regulated area includes the following in their entirety: Hillsborough Cut “D” Channel, Seddon Channel and the Hillsborough River south of the John F. Kennedy Bridge. Coordinates Reference Datum, NAD 1983.

(e) Special Local Regulations. (1) Entry into the regulated area is prohibited to all commercial marine traffic from 9 a.m. to 2:30 p.m. EST on January 29, 2005.

(2) The regulated area is an idle speed, “no wake” zone.

(3) All vessels within the regulated area shall stay clear of and give way to all vessels in parade formation in the Gasparilla Marine Parade.

(4) When within the marked channels of the parade route, vessels participating in the Gasparilla Marine Parade may not exceed the minimum speed necessary to maintain steerage.

(5) Jet skis and vessels without mechanical propulsion are prohibited from the parade route.

(6) Northbound vessels in excess of 80 feet in length without mooring arrangements made prior to January 29, 2005, are prohibited from entering Seddon Channel unless the vessel is officially entered in the Gasparilla Marine Parade. All northbound vessels in excess of 80 feet without prior mooring arrangements and not officially entered in the Gasparilla Marine Parade, must use the alternate route through Sparkman Channel.

W.E. Justice,
Captain, U.S. Coast Guard, Acting Commander, Seventh Coast Guard District.

[FR Doc. 05-1509 Filed 1-26-05; 8:45 am]

BILLING CODE 4910-15-P